DEPARTMENT OF THE INTERIOR

Bureau of Indian Affairs

Draft Environmental Impact Statement for the Proposed Absaloka Mine Crow Reservation South Extension Coal Lease Approval, Mine Development Plan and Related Federal and State Permitting Actions, Big Horn County, MT

AGENCY: Bureau of Indian Affairs, Interior.

ACTION: Notice.

SUMMARY: This notice advises the public that the Bureau of Indian Affairs (BIA) and the Montana Department of Environmental Quality (MDEQ) as joint lead agencies, with the Crow Tribe of Indians, the Office of Surface Mining Reclamation and Enforcement (OSMRE), the Bureau of Land Management (BLM) and the U.S. Environmental Protection Agency (EPA), as cooperating agencies, intend to file a Draft Environmental Impact Statement (DEIS) with the EPA for the proposed extension of the existing Absaloka mine onto the Crow Indian Reservation and for related Federal and state permitting actions; and that the DEIS is now available for public review. The purpose of the proposed action is to maximize the economic benefit from the coal trust resource by continuing to provide benefits to the Crow Tribe, including royalty, tax income and employment; as well as allow Westmoreland Resources Inc. (WRI) to continue to access coal resources, owned by the Crow Tribe, for the sale to customers using it for electric power generation. This notice also announces a public hearing to receive comments on the DEIS.

DATES: Written comments on the DEIS must arrive by May 5, 2008. The public hearing will be held April 10, 2008, beginning at 7 p.m. and continuing until all those who register to make statements have been heard.

ADDRESSES: You may mail or hand carry written comments to George Gover, Superintendent; Crow Agency, P.O. Box 69; Crow Agency Montana. You may also comment via the Internet to: westmorelandeis@mt.gov. Please submit Internet comments as an ASCII file, avoiding the use of special characters and any form of encryption. Please include your name and return address in your Internet message. If you do not receive a confirmation from the system that we have received your Internet message, contact Greg Hallsten at 406-444-3276.

You may review the DEIS at BIA, Weaver Avenue, Building 2, Crow Agency, Montana; BIA, Rocky Mountain Regional Office, 316 N. 26th Street (Environmental, Cultural and Safety—Room 4433), Billings Montana; BLM, Montana State Office (Solid Minerals section), 5001 Southgate Drive, Billings, Montana; EPA, 10 W. 15th Street Suite 3200, Helena Montana; MDEQ, 1520 E. 6th Avenue, Helena, Montana; the Crow Tribal Office, Crow Agency, Montana; Big Horn County Library, Hardin, Montana; or Little Bighorn College Library, Crow Agency, Montana. The document is available for review on the Internet at: deq.mt.gov. Computer disk copies of the document may be obtained by contacting George Gover, Superintendent, Crow Agency-BIA, at 406-638-2672.

The public hearing will be at the Big Horn County Courthouse, 121 3rd Street West, Hardin, Montana.

FOR FURTHER INFORMATION CONTACT: Rick Stefanic, 406-247-7911.

SUPPLEMENTARY INFORMATION: The WRI has operated the Absaloka Mine on the existing Tract III Crow Indian coal lease in the Crow Ceded Area since 1974. The WRI proposes to advance surface coal mining operations southward onto the Crow Reservation pursuant to the terms of an agreement with the Crow Tribe under the Indian Mineral Development Act (IMDA). The legal description for the acreage on the Reservation involves coal basically within T.1S, R.37E., sections 1, 12, 13; and T.1S., R.37E., sections 8, 9, 10, 11, 14, 15, 16, 17, 20, and 21; Montana Principal Meridian. This area totals 3,660.23 acres in Big Horn County, Montana. All of the minerals are owned by the Crow Tribe. The surface estate is owned by the Crow Tribe (32%), allotted Indian owners (14%), and non-Indian fee owners (54%).

The DEIS analyzes three alternatives, the Proposed Action, Alternative One, and No Action. Under the Proposed Action, the MDEQ and OSMRE would approve Absaloka Mine's proposed Tract III Revision. The BIA would approve the IMDA lease for the South Extension, as well as the surface use agreements between the allottee surface owners and WRI; the OSMRE would approve the mining permit for the South Extension. Under this alternative, approximately 76.6 million tons of additional coal would be recovered and the mine life would be extended until about 2023.

Under Alternative One, WRI would not implement the South Extension development plan on the Crow Indian Reservation if the BIA does not approve the IMDA lease for the South Extension tract. Furthermore, because the South Extension includes allotted trust lands, the South Extension development plan would not be implemented if the BIA does not approve all surface use agreements between the allottee surface owners and WRI. The coal contained in the South Extension tract on the Crow Indian Reservation would not be mined. The WRI would, however, receive approval from MDEQ and OSMRE to revise Absaloka Mine's existing mine and reclamation plan to include the Tract III Revision area. Under this alternative, approximately 13 million tons of additional coal would be mined and the mine life would be extended to about 2011.

Under the No Action Alternative, none of the proposed actions would occur and WRI would not implement the South Extension development plan. The remaining (already permitted) 14 million tons of in-place coal reserves would be mined by approximately 2009 at the current 6.5 to 7.0 million-ton annual production rate.

In addition to the BIA's proposed action alternatives described above, the DEIS analyzes the proposed action for the EPA to issue a Clean Water Act National Pollutant Discharge Elimination System (NPDES) permit for discharges of stormwater associated with the proposed mine expansion onto the Crow Indian Reservation. The proposed stormwater management alternative is for EPA Region 8 to issue an NPDES permit for the use of 24 sediment traps to contain the 2-year, 24-hour runoff event during the operational phase, which could be reduced in size to small depressions as a best management practice during the reclamation phase. The second alternative analyzed is to issue an NPDES permit for the use of conventional sediment ponds to detain the 10-year, 24-hour runoff event plus sediment storage, with pond size reduced to detain the 2-year, 24-hour runoff event plus sediment storage during the reclamation phase for all discharges to Sarpy Creek and to the Middle Fork of Sarpy Creek. The third alternative is to issue an NPDES permit for the use of a single large dam on the main stem of the Middle Fork of Sarpy Creek downstream of mine operations. The No Action alternative for the proposed stormwater management proposal corresponds with BIA alternatives that do not involve expansion of the mine onto the Crow Indian Reservation, in which case, the EPA would not issue an NPDES stormwater permit.

The DEIS analyzes the potential direct, indirect, and cumulative environmental impacts of the proposed action and alternatives on geology, paleontology, minerals, climate, air quality, soil, surface water and groundwater, land use, range resources, vegetation, wetlands, noxious weeds, wildlife and fisheries, threatened and endangered species, recreation, cultural resources, socioeconomics, environmental justice, transportation, visual resources, health and safety, noise, and fire management.

Public Comment Availability

Comments, including names and addresses of respondents, will be available for public review at the BIA address shown in the ADDRESSES section, during business hours, 8 a.m. to 4:30 p.m., Monday through Friday, except holidays. Before including your address, telephone number, e-mail address, or other personal identifying information in your comment, you should be aware that your entire comment—including your personal identifying information—may be made publicly available at any time. While you can ask us in your comment to withhold your personal identifying information from public review, we cannot guarantee that we will be able to do so.

Authority

This notice is published in accordance with section 1503.1 of the Council of Environmental Quality Regulations (40 CFR, Parts 1500 through 1508) implementing the procedural requirements of the National Environmental Policy Act of 1969, as amended (42 U.S.C. 4371 et seq.), Department of the Interior Manual (516 DM 1-6), and is in the exercise of authority delegated to the Director, Office of Environmental Policy and Compliance, via 516 DM 6.3 B. and Environmental Statement Memorandum ESM04-12.6(e).

Willie R. Taylor,
Director, Office of Environmental Policy and Compliance.

[FR Doc. E8-5341 Filed 3-20-08; 8:45 am]

BILLING CODE 4310-W7-P